FEDERAL COMMUNICATIONS COMMISSION

47 CFR Part 54

[WT Docket No. 17-80, WC Docket No. 10-90, WT Docket No. 10-208, WC Docket No. 11-10; DA 17-347]

Connect America Fund; Universal Service Reform—Mobility Fund

AGENCY: Federal Communications Commission.

ACTION: Proposed rule; extension of comment and reply comment period.

SUMMARY: In this document, the Commission extends the deadline for filing comments and reply comments on the Commission's Further Notice of Proposed Rulemaking (FNPRM) in this proceeding, which was published in the Federal Register on March 13, 2017. The Commission also extends the deadline established in a separate Public Notice for filing justifications supporting confidentiality requests relating to mobile speed data filed through the Commission's Form 477.

DATES: The comment and reply comment period for the proposed rule published March 13, 2017 (82 FR 13413) is extended. Submit comments on or before April 26, 2017, and submit reply comments on or before May 11, 2017.

ADDRESSES: All filings in response to the FNPRM must refer to WC Docket No. 10-90 and WT Docket No. 10-208. The Commission strongly encourages parties to develop responses to the Further Notice that adhere to the organization and structure of the Further Notice. All filings in response to the Form 477 Public Notice must refer to WT Docket No. 17-80, WC Docket No. 10-90, WT Docket No. 10-208, and WC Docket No. 11-10. You may submit comments and other filings by any of the following methods:

Federal Communications Commission's Web site: http://apps.fcc.gov/ecfs/. Follow the instructions for submitting comments.

Mail: Parties who choose to file by paper must file an original and seven copies of each filing. Filings can be sent by hand or messenger delivery, by commercial overnight courier, or by first-class or overnight U.S. Postal Service mail. All filings must be addressed to the Commission's Secretary, Office of the Secretary, Federal Communications Commission. All hand-delivered or messenger-delivered paper filings for the Commission's Secretary must be delivered to FCC Headquarters at 445 12th Street SW., Room TW-A325, Washington, DC 20554. The filing hours are 8:00 a.m. to 7:00 p.m. All hand deliveries must be held together with rubber bands or fasteners. Any envelopes and boxes must be disposed of before entering the building. Commercial overnight mail (other than U.S. Postal Service Express Mail and Priority Mail) must be sent to 9300 East Hampton Drive, Capitol Heights, MD 20743. U.S. Postal Service first-class, Express, and Priority mail must be addressed to 445 12th Street SW., Washington, DC 20554.

People with Disabilities: Contact the FCC to request reasonable accommodations (accessible format documents, sign language interpreters, CART, etc.) by email: FCC504@fcc.gov or phone: 202-418-0530 or TTY: 202-418-0432.

FOR FURTHER INFORMATION CONTACT: Audra Hale-Maddox, Audra.Hale-Maddox@fcc.gov, of the Auctions and Spectrum Access Division, Wireless Telecommunications Bureau, (202) 418-0660.

SUPPLEMENTARY INFORMATION: This is a summary of the Commission's Order in WC Docket No. 10-90, WT Docket No. 10-208, WC Docket 11-10, WT Docket No. 17-80, DA 17-347, adopted and released on April 11, 2017, which extends the comment and reply comment filing deadlines established in the FNPRM published under FCC No. 17-11 (82 FR 13413) on March 13, 2017. The deadline to file justifications for requests for confidentiality of mobile speed data submitted through FCC Form 477, initially established in a separate Public Notice (DA 17-286, rel. March 29, 2017) (Form 477 Public Notice), was also extended in this Order. Pursuant to sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

Background

1. On March 7, 2017, the Commission released a Further Notice of Proposed Rulemaking (FNPRM) in WC Docket No. 10-90, WT Docket No. 10-208. The FNPRM set deadlines for filing comments and reply comments at 30 and 45 days, respectively, after publication of the FNPRM in the Federal Register. A summary of the FNPRM was published in the Federal Register on March 13, 2017. 78 FR 39691. Accordingly, the filing dates were established as April 12, 2017 for comments and April 27, 2017 for reply comments. The deadline for filing justifications for confidentiality requests in the Form 477 Public Notice was established as April 12, 2017. On April 7, 2017, CTIA filed a request to extend the comment deadline by 14 days and to extend the reply comment deadline by 14 days thereafter. CTIA also requested a 14-day extension of the justification for confidentiality requests for mobile speed data from the Form 477 Public Notice. CTIA states that these extensions are warranted to establish a full and complete record, better address technically complex and complicated questions, and increase the possibility of its developing an industry consensus proposal for the challenge process before submitting comments and reply comments. We grant the requested extensions.

2. As set forth in section 1.46 of the Commission's rules, 47 CFR 1.46(a), the Commission's policy is that extensions of time for filing comments in rulemaking proceedings shall not be routinely granted. In the instant case, however, we find that granting an extension of the comment and reply comment periods will serve the public interest by allowing consumer and industry representatives additional time to seek consensus regarding the FNPRM issues and by facilitating the development of a more complete record on complicated issues. Further, given that the Commission has extended the deadlines for filing comments and reply comments in this matter, it will also extend the deadline to submit justifications for confidentiality requests for the minimum advertised or expected 4G LTE mobile speeds included in their Form 477 filings in order to allow the related deadlines to remain aligned.

Federal Communications Commission.
Gary D. Michaels,
Deputy Chief, Auctions and Spectrum Access Division, Wireless Telecommunications Bureau.

[FR Doc. 2017-08433 Filed 4-24-17; 8:45 am]

BILLING CODE 6712-01-P